DEPARTMENT OF HOMELAND SECURITY

Coast Guard

33 CFR Part 117

[Docket No. USCG-2016-0988]

RIN 1625-AA09

Drawbridge Operation Regulation; Detroit River (Trenton Channel), Grosse Ile, MI

AGENCY: Coast Guard, DHS.

ACTION: Notice of proposed rulemaking.

SUMMARY: The Coast Guard proposes to add permanent winter hours to the operating schedule of the Grosse Ile Toll Bridge (Bridge Road) at mile 8.8, over Trenton Channel at Grosse Ile, MI. A review of the current regulation was requested by the Grosse Ile Bridge Company, the owner of the Grosse Ile Toll Bridge (Bridge Road).

DATES: Comments and related material must reach the Coast Guard on or before: January 17, 2017.

ADDRESSES: You may submit comments identified by docket number USCG-2016-0988 using Federal eRulemaking Portal at http://www.regulations.gov.

See the “Public Participation and Request for Comments” portion of the SUPPLEMENTARY INFORMATION section below for instructions on submitting comments.

FOR FURTHER INFORMATION CONTACT: If you have questions on this proposed rule, call or email Mr. Lee D. Soule, Bridge Management Specialist, Ninth Coast Guard District; telephone 216-902-6085, email Lee.D.Soule@uscg.mil.

SUPPLEMENTARY INFORMATION:

I. Table of Abbreviations

CFR Code of Federal Regulations

DHS Department of Homeland Security

E.O. Executive order

FR Federal Register

NEPA National Environmental Policy Act of 1969

NPRM Notice of proposed rulemaking

RFA Regulatory Flexibility Act of 1980

SNPRM Supplemental notice of proposed rulemaking

Pub. L. Public Law

§ Section

U.S.C. United States Code

II. Background, Purpose and Legal Basis

This proposed rule was requested by the Grosse Ile Bridge Company, the owner of the Grosse Ile Toll Bridge (Bridge Road) to align drawbridge operating schedules with the Wayne County Highway Bridge (Grosse Ile Parkway) Bridge at mile 5.6, at Grosse Ile. The Grosse Ile Highway Bridge is authorized to remove drawtenders and open the drawbridge if at least 12-hours advance notice is provided from December 15 through March 15 each year. This proposed rule will make the current regulation easier to follow for the mariners that use the river system. The Grosse Ile Toll Bridge (Bridge Road) was not granted permanent winter hours in the past due to regular commercial traffic that required bridge openings during the winter months. Over the past two winter seasons the commercial traffic has been reduced significantly and waterway use through this drawbridge is equivalent to the volume and type of traffic that passes through the Wayne County Highway (Grosse Ile Parkway) Bridge that has had permanent winter hours for approximately 10 years. Mariners will still be able to request bridge openings with advance notice during times of light traffic volume on the river, which is due to ice formation on the Detroit River that typically prevents most vessel traffic from navigation in the channel from December 15 through March 15 each year. Additionally, Commander, Ninth Coast Guard District has granted annual authorization to the owner/operator of the Grosse Ile Toll Bridge to assume the same schedule during the past 10 years under authority granted in 33 CFR 117.35.

III. Discussion of Proposed Rule

Currently, the regulation for Grosse Ile drawbridges (33 CFR 117.631) includes the operating schedule for the Grosse Ile Toll Bridge (Bridge Road) and the Wayne County Highway Bridge (Grosse Ile Parkway) Bridge at mile 5.6, both at Grosse Ile, MI. The purpose of this proposed rule is to establish the same permanent 12-hours advance notice for both bridges on the waterway from December 15 through March 15 each year. The only change in this proposed rule is to allow a permanent requirement for 12-hours advance notice during the winter months when ice typically prevents recreational navigation in the channel. At all times both bridges will be required to open as soon as possible for public vessels of the United States, State or local government vessels used for public safety, and vessels in distress.

IV. Regulatory Analyses

We developed this proposed rule after considering numerous statutes and executive orders related to rulemaking. Below we summarize our analyses based on these statutes and executive orders and discuss First Amendment rights of protestors.

A. Regulatory Planning and Review

Executive orders 12866 and 13563 direct agencies to assess the costs and benefits of available regulatory alternatives and, if regulation is necessary, to select regulatory approaches that maximize net benefits. Executive order 13563 emphasizes the importance of quantifying both costs and benefits, of reducing costs, of harmonizing rules, and of promoting flexibility. This NPRM has not been designated a “significant regulatory action,” under executive order 12866. Accordingly, the NPRM has not been reviewed by the Office of Management and Budget.

This regulatory action determination is based on the ability that vessels can still transit the bridge given advanced notice during times when vessel traffic is at its lowest. The proposed winter drawbridge schedule for the Grosse Ile Toll Bridge (Bridge Street) would be the same as the Wayne County Highway Bridge (Grosse Ile Parkway) Bridge.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities. While some owners or operators of vessels intending to transit the bridge may be small entities, for the reasons stated in section IV.A above this proposed rule standardizes drawbridge schedules for both drawbridges on the waterway and would not have a significant economic impact on any vessel owner or operator because the bridges will open with advance notice during low traffic times on the waterway, or when ice conditions hinder normal navigation.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section, above. The Coast Guard will not retaliate against small entities that question or complain about this proposed rule or any policy or action of the Coast Guard.

C. Collection of Information

This proposed rule would call for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in executive order 13132.

Also, this proposed rule does not have tribal implications under executive order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

F. Environment

We have analyzed this proposed rule under Department of Homeland Security Management Directive 023-01 and Commandant Instruction M16475.lD, which guides the Coast Guard in complying with the National Environmental Policy Act of 1969 (NEPA) (42 U.S.C. 4321-4370f), and have made a preliminary determination that this action is one of a category of actions which do not individually or cumulatively have a significant effect on the human environment. This proposed rule simply promulgates the operating regulations or procedures for drawbridges. Normally such actions are categorically excluded from further review, under figure 2-1, paragraph (32)(e), of the Instruction.

Under figure 2-1, paragraph (32)(e), of the Instruction, an environmental analysis checklist and a categorical exclusion determination are not required for this rule. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this notice, and all public comments, are in our online docket at http://www.regulations.gov and can be viewed by following that Web site's instructions. Additionally, if you go to the online docket and sign up for email alerts, you will be notified when comments are posted or a final rule is published.

List of Subjects in 33 CFR Part 117

Bridges.

For the reasons discussed in the preamble, the Coast Guard proposes to revise 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.631, revise paragraph (a) to read as follows:

§ 117.631 Detroit River (Trenton Channel).

(a) The draw of the Grosse Ile Toll Bridge (Bridge Road), mile 8.8, at Grosse Ile, shall operate as follows:

(1) From March 16 through December 14—

(i) Between the hours of 7 a.m. and 11 p.m., seven days a week and holidays, the draw need open only from three minutes before to three minutes after the hour and half-hour for pleasure craft; for commercial vessels, during this period of time, the draw shall open on signal as soon as possible.

(ii) Between the hours of 11 p.m. and 7 a.m., the draw shall open on signal for pleasure craft and commercial vessels.

(2) From December 15 through March 15, no bridge tenders are required to be on duty at the bridge and the bridge shall open on signal if at least a twelve-hour advance notice is given.

* * * * *

Dated: November 30, 2016.
J.E. Ryan,
Rear Admiral, U.S. Coast Guard, Commander, Ninth Coast Guard District.

[FR Doc. 2016-30342 Filed 12-15-16; 8:45 am]

BILLING CODE 9110-04-P